DEPARTMENT OF TRANSPORTATION

Research and Special Programs Administration

Office of Hazardous Materials Safety; Notice of Applications for Modification of Exemption

AGENCY: Research and Special Program Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before July 10, 2002.

ADDRESSES: Records Center, Research and Special Programs, Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exempting is published in accordance with Part 107 of the Federal hazardous materials transportation law (49 U.S.C. 5117(b); 49 CFR 1.53(b)).

Issued in Washington DC, on June 18, 2002.
R. Ryan Posten,
Exemptions Program Officer, Office of Hazardous Materials, Exemptions and Approvals.

Application No. | Docket No. | Applicant | Modification of exemption
9791-M |  | Pressed Steel Tank Co., Milwaukee, WI (See Footnote 1) | 9791
10985-M |  | Georgia-Pacific Corporation, Atlanta, GA, (See Footnote 2) | 10985
11262-M |  | CAIRE Inc. (Division of CHART Industries), Burnsville, MN (See Footnote 3) | 11262
11798-M |  | Air Product and Chemicals, Inc., Allentown, PA (See Footnote 4) | 11798
12398-M | RSPA-00-6770 | Praxair Inc., Danbury, CT (See Footnote 5) | 12398
¹ To modify the exemption to authorize alternative service pressures lower than 3,500 psig for this non-DOT specification cylinder transporting certain Division 2.2 materials.
² To modify the exemption to authorize the transportation of a Division 5.1 material in DOT Specification tank cars.
³ To modify the exemption to authorize a new non-DOT specification cylinder design for the transportation of Division 2.2 materials used in a liquid oxygen supply system.
⁴ To modify the exemption to authorize the transportation of additional Division 2.2 materials in DOT Specification 3A or 3AA cylidners.
⁵ To modify the exemption to authorize the transportation of Division 2.3 and an additional Division 2.2 material in DOT 3A and 3AA cylinders equipped with an alternative relief device and to add cargo vessel as an additional mode of transportation

[FR Doc. 02-15909 Filed 6-24-02; 8:45 am]

BILLING CODE 4910-60-M